DEPARTMENT OF ENERGY

Federal Energy Regulatory Commission

Combined Notice of Filings #1

December 21, 2010.

Take notice that the Commission received the following electric corporate filings:

Docket Numbers: EC11-22-001.

Applicants: Dynegy Inc., Dynegy Midwest Generation, Inc., Dynegy Power Marketing, Inc., Sithe/Independence Power Partners, L.P., Dynegy Moss Landing, LLC, Dynegy Morro Bay, LLC, CASCO BAY ENERGY CO LLC, Dynegy Oakland, LLC, Dynegy South Bay, LLC, Dynegy Kendall Energy, LLC, Dynegy Roseton, L.L.C., ONTELAUNEE POWER OPERATING CO, LLC, Dynegy Marketing and Trade, LLC, Dynegy Danskammer, L.L.C., Icahn Partners LP et al, High River Limited Partnership, ICAHN Partners Master Fund III LP, ICAHN Partners Master Fund II LP, ICAHn Partners Master Fund LP.

Description: Amendment to Application.

Filed Date: 12/21/2010.

Accession Number: 20101221-5139.

Comment Date: 5 p.m. Eastern Time on Tuesday, January 11, 2011.

Docket Numbers: EC11-31-000.

Applicants: Northeast Utilities Service Company, The Connecticut Light and Power Company.

Description: NUSCO's Section 203 Application for Authority to Transfer Jurisditional Facilities on Behalf of The Connecticut Light and Power Company and the Connecticut Transmission Municipal Electric Energy Cooperative.

Filed Date: 12/17/2010.

Accession Number: 20101217-5176.

Comment Date: 5 p.m. Eastern Time on Friday, January 7, 2011.

Docket Numbers: EC11-32-000.

Applicants: Baja California Power, Inc, GMR Infrastructure (Malta) Limited, GMR Infrastructure (Netherlands) B.V., China Huaneng Group HK Ltd., Upper Horm Investments Ltd., Overseas International Inc. Limited

Description: Application of Baja California Power, Inc., et al.

Filed Date: 12/20/2010.

Accession Number: 20101220-5164.

Comment Date: 5 p.m. Eastern Time on Monday, January 10, 2011.

Take notice that the Commission received the following exempt wholesale generator filings:

Docket Numbers: EG11-37-000.

Applicants: Vermont Wind, LLC.

Description: Notice of Self-Certification of EWG Status of Vermont Wind, LLC.

Filed Date: 12/17/2010.

Accession Number: 20101217-5183.

Comment Date: 5 p.m. Eastern Time on Friday, January 7, 2011.

Take notice that the Commission received the following electric rate filings:

Docket Numbers: ER06-1334-014.

Applicants: Spindle Hill Energy LLC.

Description: Triennial Report of Spindle Hill Energy LLC.

Filed Date: 12/20/2010.

Accession Number: 20101220-5210.

Comment Date: 5 p.m. Eastern Time on Friday, February 18, 2011.

Docket Numbers: ER08-1096-001; ER10-2163-001; ER10-2160-001; ER10-2161-001; ER10-2162-001.

Applicants: NAEA Energy Massachusetts, LLC, NAEA Ocean Peaking Power, LLC, NAEA Rock Springs, LLC, NAEA Lakewood Cogeneration, LP, NAEA Newington Energy, LLC.

Description: Triennial Market-Based Rate Update Filing for NAEA Energy Massachusetts, LLC; NAEA Lakewood. Cogeneration, LLC; NAEA Newington Energy, LLC; NAEA Ocean Peaking Power, LLC and NAEA Rock Springs, LLC.

Filed Date: 12/21/2010.

Accession Number: 20101221-5169.

Comment Date: 5 p.m. Eastern Time on Tuesday, February 22, 2011.

Docket Numbers: ER10-1790-001; ER10-1821-002; ER10-2598-001; ER11-2029-002.

Applicants: BP Energy Company, Rolling Thunder I Power Partners, LLC, Goshen Phase II LLC, Cedar Creek II, LLC.

Description: Updated Market Power Update of BP Energy Company, et al.

Filed Date: 12/20/2010.

Accession Number: 20101220-5255.

Comment Date: 5 p.m. Eastern Time on Friday, February 18, 2011.

Docket Numbers: ER10-2548-001.

Applicants: Interstate Power and Light Company.

Description: Interstate Power and Light Company submits tariff filing per 35: Compliance Filing for IPL, TVA and Pioneer Prairie Wind LBAOCA to be effective 9/8/2010.

Filed Date: 12/21/2010.

Accession Number: 20101221-5161.

Comment Date: 5 p.m. Eastern Time on Tuesday, January 11, 2011.

Docket Numbers: ER10-2869-000.

Applicants: Midwest Independent Transmission System Operator, Inc.

Description: Midwest Independent Transmission System Operator, Inc.'s Response to Deficiency Letter.

Filed Date: 12/20/2010.

Accession Number: 20101220-5246.

Comment Date: 5 p.m. Eastern Time on Monday, January 10, 2011.

Docket Numbers: ER11-67-002.

Applicants: Stephentown Regulation Services LLC.

Description: Stephentown Regulation Services LLC submits tariff filing per 35: Stephentown FERC Electric MBR Tariff to be effective 12/14/2010.

Filed Date: 12/21/2010.

Accession Number: 20101221-5093.

Comment Date: 5 p.m. Eastern Time on Tuesday, January 11, 2011.

Docket Numbers: ER11-1895-001.

Applicants: ISO New England Inc.

Description: ISO New England Inc., submits tariff filing per 35.17(a): Withdrawal of Compliance Filing in Docket ER11-1895-001 to be effective 10/1/2010.

Filed Date: 12/21/2010.

Accession Number: 20101221-5072.

Comment Date: 5 p.m. Eastern Time on Tuesday, January 11, 2011.

Docket Numbers: ER11-2416-000.

Applicants: Cedar Creek II, LLC.

Description: Cedar Creek II, LLC submits tariff filing per 35.13(a)(2)(iii) Cotenancy Agreement to be effective 12/21/2010.

Filed Date: 12/20/2010.

Accession Number: 20101220-5157.

Comment Date: 5 p.m. Eastern Time on Monday, January 10, 2011.

Docket Numbers: ER11-2417-000.

Applicants: Westar Energy, Inc.

Description: Westar Energy, Inc. submits tariff filing per 35.13(a)(2)(iii): Kansas Electric Power Cooperative, Inc., to be effective 1/1/2011.

Filed Date: 12/20/2010.

Accession Number: 20101220-5161.

Comment Date: 5 p.m. Eastern Time on Monday, January 10, 2011.

Docket Numbers: ER11-2418-000.

Applicants: PJM Interconnection, L.L.C., Delmarva Power & Light Company.

Description: PJM Interconnection, L.L.C., submits tariff filing per 35.13(a)(2)(iii): Interconnection & Mutual Operating Agmt No. 2710 for Delmarva and City of Lewes to be effective 2/18/2011.

Filed Date: 12/20/2010.

Accession Number: 20101220-5162.

Comment Date: 5 p.m. Eastern Time on Monday, January 10, 2011.

Docket Numbers: ER11-2420-000.

Applicants: Western Massachusetts Electric Company.

Description: Western Massachusetts Electric Company submits tariff filing per 35.13(a)(2)(iii): Interconnection Agreement Between WMECO and Covanta Springfield LLC to be effective 1/1/2011.

Filed Date: 12/21/2010.

Accession Number: 20101221-5006.

Comment Date: 5 p.m. Eastern Time on Tuesday, January 11, 2011.

Docket Numbers: ER11-2421-000.

Applicants: Public Service Company of New Hampshire.

Description: Public Service Company of New Hampshire submits tariff filing per 35.13(a)(2)(iii): Interconnection Agreement between PSNH and Pinetree Power to be effective 1/1/2011.

Filed Date: 12/21/2010.

Accession Number: 20101221-5008.

Comment Date: 5 p.m. Eastern Time on Tuesday, January 11, 2011.

Docket Numbers: ER11-2422-000.

Applicants: Manitowoc Public Utilities.

Description: Manitowoc Public Utilities' Application to Amend Rate Schedule FERC No 2.

Filed Date: 12/20/2010.

Accession Number: 20101220-5247.

Comment Date: 5 p.m. Eastern Time on Monday, January 10, 2011.

Docket Numbers: ER11-2424-000.

Applicants: Pinetree Power-Tamworth, Inc.

Description: Pinetree Power-Tamworth, Inc. submits tariff filing per 35.12: Pinetree Power—Tamworth, Inc.—Filing of Initial Tariff to be effective 1/1/2011.

Filed Date: 12/21/2010.

Accession Number: 20101221-5029.

Comment Date: 5 p.m. Eastern Time on Tuesday, January 11, 2011.

Docket Numbers: ER11-2425-000.

Applicants: Southwest Power Pool, Inc.

Description: Southwest Power Pool, Inc. submits tariff filing per 35.13(a)(2)(iii): Revisions to Attachment M and N—Losses Election, to be effective 2/19/2011.

Filed Date: 12/21/2010.

Accession Number: 20101221-5030.

Comment Date: 5 p.m. Eastern Time on Tuesday, January 11, 2011.

Docket Numbers: ER11-2426-000.

Applicants: Duke Energy Carolinas, LLC.

Description: Duke Energy Carolinas, LLC submits tariff filing per 35: Attachment C Compliance Filing (Dkt. No. RM09-18) to be effective 4/1/2011.

Filed Date: 12/21/2010.

Accession Number: 20101221-5031.

Comment Date: 5 p.m. Eastern Time on Tuesday, January 11, 2011.

Docket Numbers: ER11-2427-000.

Applicants: ISO New England Inc., New England Power Pool Participants Committee.

Description: ISO New England Inc. submits tariff filing per 35.13(a)(2)(iii): Rev. Rel. to the Peak Energy Rent Feature of the FCM, to be effective 12/22/2010.

Filed Date: 12/21/2010.

Accession Number: 20101221-5034.

Comment Date: 5 p.m. Eastern Time on Tuesday, January 11, 2011.

Docket Numbers: ER11-2428-000.

Applicants: Southwest Power Pool, Inc.

Description: Southwest Power Pool, Inc. submits tariff filing per 35.13(a)(2)(iii). Revisions to Clarify Losses Calculation to be effective 3/1/2011.

Filed Date: 12/21/2010.

Accession Number: 20101221-5044.

Comment Date: 5 p.m. Eastern Time on Tuesday, January 11, 2011.

Docket Numbers: ER11-2429-000.

Applicants: Fowler Ridge Wind Farm LLC.

Description: Fowler Ridge Wind Farm LLC submits tariff filing per 35: Compliance Filing—Price Reporting Status to be effective N/A.

Filed Date: 12/21/2010.

Accession Number: 20101221-5047.

Comment Date: 5 p.m. Eastern Time on Tuesday, January 11, 2011.

Docket Numbers: ER11-2430-000.

Applicants: San Diego Gas & Electric Company.

Description: San Diego Gas & Electric Company submits tariff filing per 35.13(a)(2)(ii): SDG&E TRBAA/TACBAA Update to Transmission Owner Filing to be effective 1/1/2011.

Filed Date: 12/21/2010.

Accession Number: 20101221-5053.

Comment Date: 5 p.m. Eastern Time on Tuesday, January 11, 2011.

Docket Numbers: ER11-2431-000.

Applicants: Duke Energy Ohio, Inc.

Description: Notice of Cancellation of Duke Energy Ohio's First Revised Rate Schedule No. 63.

Filed Date: 12/21/2010.

Accession Number: 20101221-5062.

Comment Date: 5 p.m. Eastern Time on Tuesday, January 11, 2011.

Docket Numbers: ER11-2432-000.

Applicants: Duke Energy Ohio, Inc.

Description: Notice of Cancellation of Duke Energy Ohio's First Revised Rate Schedule No. 62.

Filed Date: 12/21/2010.

Accession Number: 20101221-5063.

Comment Date: 5 p.m. Eastern Time on Tuesday, January 11, 2011.

Docket Numbers: ER11-2434-000.

Applicants: Wisconsin Electric Power Company.

Description: Wisconsin Electric Power Company submits tariff filing per 35.13(a)(2)(iii): FERC Rate Schedule 115 Amended Service Agreement Filing to be effective 12/21/2010.

Filed Date: 12/21/2010.

Accession Number: 20101221-5077.

Comment Date: 5 p.m. Eastern Time on Tuesday, January 11, 2011.

Docket Numbers: ER11-2435-000.

Applicants: Public Service Company of Colorado.

Description: Public Service Company of Colorado submits tariff filing per 35.13(a)(2)(iii): 2010_12_21_286-PSCo_PRPA_RCA to be effective 12/22/2010.

Filed Date: 12/21/2010.

Accession Number: 20101221-5078.

Comment Date: 5 p.m. Eastern Time on Tuesday, January 11, 2011.

Docket Numbers: ER11-2436-000.

Applicants: Oracle Energy Services, LLC.

Description: Oracle Energy Services, LLC submits tariff filing per 35.12: Oracle Energy Services, LLC Initial Market-Based Rate. Tariff and Baseline to be effective 12/21/2010.

Filed Date: 12/21/2010.

Accession Number: 20101221-5082.

Comment Date: 5 p.m. Eastern Time on Tuesday, January 11, 2011.

Docket Numbers: ER11-2437-000.

Applicants: ABN Energy, LLC.

Description: ABN Energy, LLC submits tariff filing per 35.12: Market-Based Rate Initial Tariff Baseline to be effective 2/27/2011.

Filed Date: 12/21/2010.

Accession Number: 20101221-5084.

Comment Date: 5 p.m. Eastern Time on Tuesday, January 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-33154 Filed 1-3-11; 8:45 am]

BILLING CODE 6717-01-P